DEPARTMENT OF LABOR

Employment and Training Administration

[TA-W-52,665]

Textron Fastening Systems, a Wholly-Owned Subsidiary of Textron, Inc., PFPD Plant, Tooling Department, Rockford, IL; Notice of Termination of Reconsideration

By application of November 5, 2003, a petitioner requested administrative reconsideration of the Department's negative determination regarding eligibility for workers and former workers of the subject firm to apply for Trade Adjustment Assistance (TAA). The Department's initial determination was signed on September 4, 2003, and published in the Federal Register on October 10, 2003 (68 FR 58719). On December 17, 2003, the Department issued a Notice of Affirmative Determination Regarding Application for Reconsideration, which was published in the Federal Register on January 26, 2004 (69 FR 3606).

By letter of February 11, 2004, the petitioner withdrew the request for reconsideration. Consequently, further investigation in this case would serve no purpose, and the investigation has been terminated.

Signed in Washington, DC this 12th day of February, 2004.
Elliott S. Kushner,
Certifying Officer, Division of Trade Adjustment Assistance.

[FR Doc. 04-4964 Filed 3-4-04; 8:45 am]

BILLING CODE 4510-30-P